DEPARTMENT OF ENERGY

Federal Energy Regulatory Commission

[Docket No. RP00-620-001]

Stingray Pipeline Company, L.L.C.; Notice of Compliance Filing

November 28, 2000.

Take notice that on November 21, 2000, Stingray Pipeline Company, L.L.C. (Stingray), tendered for filing as part of its FERC Gas Tariff, Third Revised Volume No. 1, the following revised tariffs, with an effective date of November 1, 2000.

Substitute Fourth Revised Sheet No. 132

Substitute Third Revised Sheet No. 133

Stingray states that the tendered sheets are filed in compliance with the Commission's October 27, 2000 Order in the referenced dockets, regarding the netting and trading of imbalances on Stingray's system.

Any person desiring to protest said filing should file a protest with the Federal Energy Regulatory Commission, 888 First Street, NE., Washington, 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-30741 Filed 12-1-00; 8:45 am]

BILLING CODE 6717-01-M